DEPARTMENT OF TRANSPORTATION

Federal Aviation Administration

14 CFR Part 97

[Docket No. 31252; Amdt. No. 3852]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective May 23, 2019. The compliance date for each SIAP, associated Takeoff Minimums, and ODP is specified in the amendatory provisions.

The incorporation by reference of certain publications listed in the regulations is approved by the Director of the Federal Register as of May 23, 2019.

ADDRESSES: Availability of matter incorporated by reference in the amendment is as follows:

For Examination

1. U.S. Department of Transportation, Docket Ops-M30, 1200 New Jersey Avenue SE, West Bldg., Ground Floor, Washington, DC 20590-0001;

2. The FAA Air Traffic Organization Service Area in which the affected airport is located;

3. The office of Aeronautical Navigation Products, 6500 South MacArthur Blvd., Oklahoma City, OK 73169 or,

4. The National Archives and Records Administration (NARA).

For information on the availability of this material at NARA, call 202-741-6030, or go to: http://www.archives.gov/federal_register/code_of_federal_regulations/ibr_locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29. Room 104, Oklahoma City, OK 73125. Telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary.

This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on the criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on May 3, 2019.
Rick Domingo,
Executive Director, Flight Standards Service.

Adoption of the Amendment

Accordingly, pursuant to the authority delegated to me, Title 14, Code of Federal regulations, Part 97, (14 CFR part 97), is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC date | Subject
20-Jun-19 | CA | San Francisco | San Francisco Intl | 8/1355 | 4/17/19 | ILS OR LOC RWY 19L, Amdt 22.
20-Jun-19 | RI | Providence | Theodore Francis Green State | 8/3750 | 4/16/19 | ILS OR LOC RWY 34, Amdt 12A.
20-Jun-19 | RI | Providence | Theodore Francis Green State | 8/3752 | 4/16/19 | RNAV (GPS) RWY 34, Amdt 2.
20-Jun-19 | RI | Providence | Theodore Francis Green State | 8/3757 | 4/16/19 | RNAV (GPS) Y RWY 23, Amdt 2A.
20-Jun-19 | RI | Providence | Theodore Francis Green State | 8/3758 | 4/16/19 | VOR/DME RWY 16, Amdt 4E.
20-Jun-19 | RI | Providence | Theodore Francis Green State | 8/3759 | 4/16/19 | VOR/DME RWY 23, Amdt 6G.
20-Jun-19 | AK | Holy Cross | Holy Cross | 8/7339 | 4/17/19 | RNAV (GPS) RWY 1, Orig-C.
20-Jun-19 | NC | Roxboro | Person County | 8/7445 | 4/16/19 | RNAV (GPS) RWY 6, Orig.
20-Jun-19 | NC | Roxboro | Person County | 8/7447 | 4/16/19 | RNAV (GPS) RWY 24, Orig-A.
20-Jun-19 | MS | Bay St Louis | Stennis Intl | 9/0465 | 4/3/19 | NDB RWY 18, Amdt 2A.
20-Jun-19 | MN | Bigfork | Bigfork Muni | 9/0660 | 4/3/19 | RNAV (GPS) RWY 33, Orig-C.
20-Jun-19 | CQ | Tinian Island | Tinian Intl | 9/0965 | 4/17/19 | NDB-A, Amdt 3.
20-Jun-19 | IA | Spencer | Spencer Muni | 9/0996 | 4/3/19 | ILS OR LOC RWY 12, Amdt 2A.
20-Jun-19 | IN | Marion | Marion Muni | 9/1367 | 4/3/19 | VOR RWY 15, Amdt 10D
20-Jun-19 | KS | Oakley | Oakley Muni | 9/1396 | 4/18/19 | RNAV (GPS) RWY 34, Orig.
20-Jun-19 | KS | Oakley | Oakley Muni | 9/1397 | 4/18/19 | NDB RWY 34, Amdt 3.
20-Jun-19 | IA | Boone | Boone Muni | 9/1600 | 4/3/19 | RNAV (GPS) RWY 15, Amdt 1B.
20-Jun-19 | KY | Frankfort | Capital City | 9/1683 | 4/3/19 | VOR RWY 25, Amdt 3C.
20-Jun-19 | KY | Frankfort | Capital City | 9/1684 | 4/3/19 | LOC RWY 25, Amdt 3B.
20-Jun-19 | MI | Alpena | Alpena County Rgnl | 9/1687 | 4/3/19 | RNAV (GPS) RWY 1, Orig-B.
20-Jun-19 | IN | Muncie | Delaware County Rgnl | 9/1865 | 4/3/19 | RNAV (GPS) RWY 14, Orig-A.
20-Jun-19 | IA | Oskaloosa | Oskaloosa Muni | 9/1870 | 4/3/19 | RNAV (GPS) RWY 13, Amdt 1.
20-Jun-19 | IA | Oskaloosa | Oskaloosa Muni | 9/1871 | 4/3/19 | RNAV (GPS) RWY 31, Amdt 1.
20-Jun-19 | MT | Havre | Havre City-County | 9/2097 | 4/17/19 | RNAV (GPS) RWY 8, Orig-A.
20-Jun-19 | MT | Havre | Havre City-County | 9/2098 | 4/17/19 | RNAV (GPS) RWY 26, Orig-A.
20-Jun-19 | MT | Havre | Havre City-County | 9/2100 | 4/17/19 | VOR RWY 26, Amdt 9A.
20-Jun-19 | FL | Tallahassee | Tallahassee Intl | 9/2214 | 4/3/19 | RADAR-1, Amdt 6A.
20-Jun-19 | FL | Tallahassee | Tallahassee Intl | 9/2241 | 4/3/19 | ILS OR LOC RWY 27, ILS RWY 27 (CAT II), Amdt 10B.
20-Jun-19 | FL | Tallahassee | Tallahassee Intl | 9/2242 | 4/3/19 | ILS OR LOC RWY 36, Amdt 25D.
20-Jun-19 | FL | Melbourne | Melbourne Intl | 9/2327 | 4/3/19 | RNAV (GPS) RWY 9R, Amdt 1B.
20-Jun-19 | FL | Melbourne | Melbourne Intl | 9/2328 | 4/3/19 | ILS OR LOC RWY 9R, Amdt 12A.
20-Jun-19 | OH | Carrollton | Carroll County-Tolson | 9/2428 | 4/3/19 | RNAV (GPS) RWY 7, Orig-B.
20-Jun-19 | OH | Carrollton | Carroll County-Tolson | 9/2429 | 4/3/19 | VOR-A, Amdt 1A.
20-Jun-19 | OK | Poteau | Robert S Kerr | 9/2495 | 4/3/19 | Takeoff Minimums and Obstacle DP, Amdt 4.
20-Jun-19 | TX | Stephenville | Stephenville Clark Rgnl | 9/2497 | 4/3/19 | Takeoff Minimums and Obstacle DP, Orig.
20-Jun-19 | IA | Algona | Algona Muni | 9/2585 | 4/18/19 | RNAV (GPS) RWY 12, Orig-C.
20-Jun-19 | SD | Martin | Martin Muni | 9/2619 | 4/18/19 | RNAV (GPS) RWY 32, Amdt 1.
20-Jun-19 | AR | Fort Smith | Fort Smith Rgnl | 9/2675 | 4/3/19 | RADAR-1, Amdt 8C.
20-Jun-19 | AZ | Tucson | Tucson Intl | 9/3101 | 4/17/19 | LOC BC RWY 29R, Amdt 8A.
20-Jun-19 | AZ | Tucson | Tucson Intl | 9/3114 | 4/17/19 | RNAV (RNP) Y RWY 11L, Orig-A.
20-Jun-19 | AZ | Tucson | Tucson Intl | 9/3117 | 4/17/19 | VOR/DME OR TACAN RWY 29R, Amdt 2D.
20-Jun-19 | NH | Nashua | Boire Field | 9/3122 | 4/18/19 | ILS OR LOC RWY 14, Amdt 1B.
20-Jun-19 | TX | Stamford | Arledge Field | 9/3169 | 4/3/19 | RNAV (GPS) RWY 17, Orig.
20-Jun-19 | CO | Delta | Blake Field | 9/3176 | 4/30/19 | Takeoff Minimums and Obstacle DP, Orig.
20-Jun-19 | MN | Grand Rapids | Grand Rapids/Itasca Co-Gordon Newstrom Fld | 9/3284 | 4/3/19 | VOR RWY 34, Amdt 11A.
20-Jun-19 | MN | Grand Rapids | Grand Rapids/Itasca Co-Gordon Newstrom Fld | 9/3285 | 4/3/19 | RNAV (GPS) RWY 16, Orig-A.
20-Jun-19 | MN | Grand Rapids | Grand Rapids/Itasca Co-Gordon Newstrom Fld | 9/3289 | 4/3/19 | ILS OR LOC RWY 34, Amdt 2A.
20-Jun-19 | RI | Providence | Theodore Francis Green State | 9/3325 | 4/16/19 | RNAV (GPS) RWY 16, Orig-D.
20-Jun-19 | CA | Big Bear City | Big Bear City | 9/3434 | 4/17/19 | RNAV (GPS) RWY 26, Amdt 2A.
20-Jun-19 | OH | Wapakoneta | Neil Armstrong | 9/3519 | 4/3/19 | RNAV (GPS) RWY 8, Orig-A.
20-Jun-19 | TX | Stamford | Arledge Field | 9/3932 | 4/3/19 | RNAV (GPS) RWY 35, Orig.
20-Jun-19 | CA | San Diego/El Cajon | Gillespie Field | 9/4128 | 4/23/19 | RNAV (GPS) RWY 9L, Orig.
20-Jun-19 | CA | San Diego/El Cajon | Gillespie Field | 9/4130 | 4/23/19 | RNAV (GPS) RWY 17, Amdt 2E.
20-Jun-19 | AK | Bethel | Bethel | 9/4380 | 4/23/19 | RNAV (GPS)-A, Amdt 1B.
20-Jun-19 | TX | Wichita Falls | Kickapoo Downtown | 9/4534 | 4/3/19 | NDB RWY 35, Amdt 4A.
20-Jun-19 | NC | Washington | Washington-Warren | 9/5107 | 4/3/19 | Takeoff Minimums and Obstacle DP, Amdt 1A.
20-Jun-19 | IL | Chicago/Prospect Heights/Wheeling | Chicago Executive | 9/5198 | 4/3/19 | VOR RWY 16, Orig-E.
20-Jun-19 | IL | Chicago/Prospect Heights/Wheeling | Chicago Executive | 9/5199 | 4/3/19 | ILS OR LOC RWY 16, Amdt 2D.
20-Jun-19 | GA | Waynesboro | Burke County | 9/5241 | 4/3/19 | RNAV (GPS) RWY 8, Orig-A.
20-Jun-19 | GA | Waynesboro | Burke County | 9/5242 | 4/3/19 | RNAV (GPS) RWY 26, Orig-A.
20-Jun-19 | OH | Columbus | Rickenbacker Intl | 9/5454 | 4/18/19 | RNAV (GPS) RWY 5R, Amdt 1B.
20-Jun-19 | OH | Columbus | Rickenbacker Intl | 9/5456 | 4/18/19 | RNAV (GPS) RWY 23R, Orig-B.
20-Jun-19 | OH | Columbus | Rickenbacker Intl | 9/5457 | 4/18/19 | RNAV (GPS) RWY 5L, Orig-A.
20-Jun-19 | OH | Middletown | Middletown Regional/Hook Field | 9/5569 | 4/3/19 | LOC RWY 23, Amdt 7I.
20-Jun-19 | OH | Middletown | Middletown Regional/Hook Field | 9/5570 | 4/3/19 | NDB RWY 23, Amdt 9B.
20-Jun-19 | FL | Fort Lauderdale | Fort Lauderdale/Hollywood Intl | 9/5822 | 4/30/19 | RNAV (RNP) Y RWY 10L, Amdt 1C
20-Jun-19 | OH | Piqua | Piqua Airport—Hartzell Field | 9/5877 | 4/18/19 | VOR-A, Amdt 13C.
20-Jun-19 | OH | Piqua | Piqua Airport—Hartzell Field | 9/5879 | 4/18/19 | RNAV (GPS) RWY 8, Orig-D.
20-Jun-19 | OH | Piqua | Piqua Airport—Hartzell Field | 9/5880 | 4/18/19 | RNAV (GPS) RWY 26, Orig-C.
20-Jun-19 | OH | Piqua | Piqua Airport—Hartzell Field | 9/5887 | 4/18/19 | VOR RWY 26, Amdt 6D.
20-Jun-19 | CA | Van Nuys | Van Nuys | 9/5997 | 4/17/19 | LDA-C, Amdt 3A.
20-Jun-19 | CA | Van Nuys | Van Nuys | 9/5998 | 4/17/19 | VOR-A, Amdt 4C.
20-Jun-19 | CA | Van Nuys | Van Nuys | 9/5999 | 4/17/19 | VOR-B, Amdt 4A.
20-Jun-19 | OH | Toledo | Toledo Express | 9/6083 | 4/3/19 | RADAR-1, Amdt 19B.
20-Jun-19 | OH | Toledo | Toledo Express | 9/6084 | 4/3/19 | VOR RWY 34, Amdt 7C.
20-Jun-19 | LA | Patterson | Harry P Williams Memorial | 9/6124 | 4/3/19 | Takeoff Minimums and Obstacle DP, Amdt 1A.
20-Jun-19 | WV | Moundsville | Marshall County | 9/6197 | 4/16/19 | RNAV (GPS) RWY 6, Orig-C.
20-Jun-19 | WV | Moundsville | Marshall County | 9/6198 | 4/16/19 | RNAV (GPS) RWY 24, Orig-A.
20-Jun-19 | WV | Moundsville | Marshall County | 9/6199 | 4/16/19 | VOR/DME-A, Amdt 2B.
20-Jun-19 | WV | Huntington | Tri-State/Milton J Ferguson Field | 9/6428 | 4/16/19 | ILS OR LOC RWY 30, Amdt 7A.
20-Jun-19 | WV | Huntington | Tri-State/Milton J Ferguson Field | 9/6429 | 4/16/19 | RNAV (GPS) RWY 30, Amdt 1A.
20-Jun-19 | WV | Huntington | Tri-State/Milton J Ferguson Field | 9/6430 | 4/16/19 | RNAV (GPS) RWY 12, Amdt 3A.
20-Jun-19 | NJ | Teterboro | Teterboro | 9/6874 | 4/16/19 | VOR RWY 24, Orig-E.
20-Jun-19 | NJ | Teterboro | Teterboro | 9/6875 | 4/16/19 | ILS OR LOC RWY 6, Amdt 29H.
20-Jun-19 | NJ | Teterboro | Teterboro | 9/6877 | 4/16/19 | RNAV (GPS) Y RWY 6, Amdt 2C.
20-Jun-19 | NJ | Teterboro | Teterboro | 9/6878 | 4/16/19 | VOR/DME RWY 6, Orig-E.
20-Jun-19 | NJ | Teterboro | Teterboro | 9/6879 | 4/16/19 | VOR/DME-B, Amdt 2E.
20-Jun-19 | NJ | Teterboro | Teterboro | 9/6880 | 4/16/19 | ILS OR LOC RWY 19, Orig-B.
20-Jun-19 | WA | Spokane | Spokane Intl | 9/7205 | 4/30/19 | RNAV (GPS) Y RWY 8, Amdt 2C.
20-Jun-19 | AR | North Little Rock | North Little Rock Muni | 9/7332 | 4/3/19 | LOC/DME RWY 5, Orig-A.
20-Jun-19 | AR | North Little Rock | North Little Rock Muni | 9/7333 | 4/3/19 | VOR RWY 35, Amdt 1.
20-Jun-19 | AR | North Little Rock | North Little Rock Muni | 9/7334 | 4/3/19 | RNAV (GPS) RWY 35, Orig.
20-Jun-19 | SC | Florence | Florence Rgnl | 9/7337 | 4/16/19 | RNAV (GPS) RWY 1, Orig-A.
20-Jun-19 | NC | Edenton | Northeastern Rgnl | 9/7339 | 4/16/19 | ILS OR LOC RWY 19, Orig-B.
20-Jun-19 | MA | Northampton | Northampton | 9/7342 | 4/3/19 | RNAV (GPS) RWY 14, Orig.
20-Jun-19 | NJ | Teterboro | Teterboro | 9/7370 | 4/16/19 | RNAV (GPS) X RWY 6, Amdt 2A.
20-Jun-19 | CA | San Andreas | Calaveras Co-Maury Rasmussen Field | 9/7375 | 4/17/19 | RNAV (GPS) RWY 31, Amdt 1.
20-Jun-19 | CO | Delta | Blake Field | 9/7792 | 4/30/19 | RNAV (GPS) RWY 3, Orig.
20-Jun-19 | VA | Dublin | New River Valley | 9/7889 | 4/16/19 | RNAV (GPS) RWY 24, Amdt 1.
20-Jun-19 | VA | Dublin | New River Valley | 9/7890 | 4/16/19 | ILS OR LOC Z RWY 6, Amdt 5.
20-Jun-19 | VA | Dublin | New River Valley | 9/7891 | 4/16/19 | ILS OR LOC Y RWY 6, Orig.
20-Jun-19 | VA | Dublin | New River Valley | 9/7892 | 4/16/19 | RNAV (GPS) RWY 6, Orig.
20-Jun-19 | MO | Monticello | Lewis County Rgnl | 9/7993 | 4/3/19 | RNAV (GPS) RWY 36, Orig-A.
20-Jun-19 | MO | Monticello | Lewis County Rgnl | 9/7997 | 4/3/19 | RNAV (GPS) RWY 18, Orig-A.
20-Jun-19 | MS | Jackson | Hawkins Field | 9/8000 | 4/16/19 | Takeoff Minimums and Obstacle DP, Amdt 1.
20-Jun-19 | TX | Lubbock | Lubbock Preston Smith Intl | 9/8133 | 4/3/19 | RNAV (RNP) Z RWY 17R, Orig-B.
20-Jun-19 | TX | Lubbock | Lubbock Preston Smith Intl | 9/8134 | 4/3/19 | RNAV (RNP) Z RWY 35L, Orig-B.
20-Jun-19 | TX | Lubbock | Lubbock Preston Smith Intl | 9/8135 | 4/3/19 | RNAV (GPS) RWY 26, Amdt 3.
20-Jun-19 | TX | Lubbock | Lubbock Preston Smith Intl | 9/8136 | 4/3/19 | RNAV (GPS) Y RWY 17R, Amdt 2B.
20-Jun-19 | TX | Lubbock | Lubbock Preston Smith Intl | 9/8137 | 4/3/19 | RNAV (GPS) Y RWY 35L, Amdt 2A.
20-Jun-19 | LA | Patterson | Harry P Williams Memorial | 9/8208 | 4/3/19 | RNAV (GPS) RWY 24, Amdt 1C.
20-Jun-19 | LA | Patterson | Harry P Williams Memorial | 9/8218 | 4/3/19 | RNAV (GPS) RWY 6, Orig-B.
20-Jun-19 | KS | Oakley | Oakley Muni | 9/8268 | 4/3/19 | Takeoff Minimums and Obstacle DP, Orig.
20-Jun-19 | WI | Watertown | Watertown Muni | 9/8741 | 4/3/19 | RNAV (GPS) RWY 5, Orig.
20-Jun-19 | NC | Roxboro | Person County | 9/8949 | 4/30/19 | ILS OR LOC RWY 6, Amdt 1A.
20-Jun-19 | GU | Guam | Guam Intl | 9/9122 | 4/17/19 | ILS OR LOC RWY 6L, Amdt 4A.
20-Jun-19 | GU | Guam | Guam Intl | 9/9123 | 4/17/19 | ILS OR LOC RWY 6R, Orig-C.
20-Jun-19 | CA | Hayward | Hayward Executive | 9/9129 | 4/17/19 | VOR/DME-A, Amdt 3A.
20-Jun-19 | CA | Hayward | Hayward Executive | 9/9130 | 4/17/19 | LOC/DME RWY 28L, Amdt 3B.
20-Jun-19 | CA | Hayward | Hayward Executive | 9/9131 | 4/17/19 | RNAV (GPS) RWY 28L, Amdt 1B.
20-Jun-19 | IA | Washington | Washington Muni | 9/9241 | 4/3/19 | RNAV (GPS) RWY 13, Orig.
20-Jun-19 | IA | Washington | Washington Muni | 9/9243 | 4/3/19 | RNAV (GPS) RWY 18, Amdt 1.
20-Jun-19 | IA | Washington | Washington Muni | 9/9244 | 4/3/19 | RNAV (GPS) RWY 31, Orig.
20-Jun-19 | IA | Washington | Washington Muni | 9/9245 | 4/3/19 | RNAV (GPS) RWY 36, Amdt 1.
20-Jun-19 | TX | Abilene | Abilene Rgnl | 9/9466 | 4/3/19 | RNAV (GPS) RWY 17L, Amdt 1A.
20-Jun-19 | GA | Jekyll Island | Jekyll Island | 9/9510 | 4/16/19 | Takeoff Minimums and Obstacle DP, Orig.
20-Jun-19 | OK | Seminole | Seminole Muni | 9/9812 | 4/3/19 | RNAV (GPS) RWY 16, Amdt 1.
20-Jun-19 | OK | Seminole | Seminole Muni | 9/9813 | 4/3/19 | NDB RWY 16, Amdt 4.
20-Jun-19 | CA | Bishop | Bishop | 9/9882 | 4/17/19 | RNAV (RNP) RWY 30, Orig-C.
20-Jun-19 | WA | Shelton | Sanderson Field | 9/9903 | 4/17/19 | RNAV (GPS) RWY 23, Amdt 1.

[FR Doc. 2019-10737 Filed 5-22-19; 8:45 am]

BILLING CODE 4910-13-P